DEPARTMENT OF HEALTH AND HUMAN SERVICES

Centers for Disease Control and Prevention

[60Day-05-0026)

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Report of Verified Case of Tuberculosis (RVCT), OMB No. 0920-0026—Extension—Centers for Disease Control and Prevention (CDC), National Center for HIV, STD, and TB Prevention (NCHSTP). CDC is requesting OMB approval for another 3-year extension of the Report of Verified Case of Tuberculosis (RVCT) data collection.

CDC maintains the national TB surveillance system to support CDC's goal of eliminating tuberculosis (TB) in the United States. Previous modifications to the data collection have improved the ability of CDC to monitor important aspects of TB epidemiology in the United States, including drug resistance, TB risk factors, HIV coinfection, and treatment. The system also enables CDC to monitor the recovery of the nation from the recent resurgence of TB and to determine if current TB epidemiology supports the renewed national goal of TB elimination. To measure progress in achieving this goal, as well as continue to monitor TB trends and potential TB outbreaks, identify high risk populations for TB, and gauge program performance, CDC is requesting approval to extend the use of the RVCT.

Data are collected by 60 Reporting Areas (50 states, the District of Columbia, New York City, Puerto Rico, and 7 jurisdictions in the Pacific and Caribbean) using the RVCT. There are no changes to the forms previously approved in 2002. An RVCT is completed for each reported TB case and contains demographic, clinical, and laboratory information.

A comprehensive software package, the Tuberculosis Information Management System (TIMS) is currently used for RVCT data entry and electronic transmission of reports to CDC. TIMS provides reports, query functions, and export functions to assist in analysis of the data. However, electronic transmission of TB case reports to CDC is in a transition phase with the development of the web-based National Electronic Disease Surveillance System (NEDSS) and Public Health Information Network (PHIN). Following the transition, many respondents will implement a PHIN compatible information system to collect and report TB surveillance data via the PHIN Messaging System. The remaining respondents will employ the NEDSS base system. These respondents will be able to use either the associated TB Program Area Module or their own TB surveillance application to collect and report RVCT data to CDC.

CDC publishes an annual report summarizing national TB statistics and also periodically conducts special analyses for publication in peer-reviewed scientific journals to further describe and interpret national TB data. These data assist public health officials and policy makers in program planning, evaluation, and resource allocation. Reporting Areas also review and analyze their RVCT data to monitor local TB trends, evaluate program success, and assist in focusing resources to eliminate TB.

No other Federal agency collects this type of national TB data. In addition to providing technical assistance on the use of RVCT, CDC also provides Reporting Areas with technical support for the TIMS software. In this request, CDC is requesting approval for approximately 7,560 burden hours, an estimated decrease of 778 hours. This decrease is due to a decrease in the total number of tuberculosis cases. There is no cost to respondents except for their time.

Annualized Burden Table
Respondents | Number of respondents | Number of responses per respondents | Average burden per response (in hours) | Total burden (in hours)
Local, state, territorial health departments | 60 | 252 | 30/60 | 7,560
Total |  |  |  | 7,560

Dated: February 15, 2005.
Betsey Dunaway,
Acting Reports Clearance Officer, Office of the Chief Science Officer, Centers for Disease Control and Prevention.

[FR Doc. 05-3274 Filed 2-18-05; 8:45 am]

BILLING CODE 4163-18-P